DEPARTMENT OF HOUSING AND URBAN DEVELOPMENT

[Docket No. FR-4767-N-04]

Notice of Regulatory Waiver Requests Granted for the Fourth Quarter of Calendar Year 2002

AGENCY: Office of the Secretary, HUD.

ACTION: Public notice of the granting of regulatory waivers from October 1, 2002, through December 31, 2002.

SUMMARY: Section 106 of the Department of Housing and Urban Development Reform Act of 1989 (the HUD Reform Act) requires HUD to publish quarterly Federal Register notices of all regulatory waivers that HUD has approved. Each notice must cover the quarterly period since the previous Federal Register notice. The purpose of this notice is to comply with the requirements of section 106 of the HUD Reform Act. This notice contains a list of regulatory waivers granted by HUD during the quarter beginning on October 1, 2002, and ending on December 31, 2002.

FOR FURTHER INFORMATION CONTACT: For general information about this notice, contact Aaron Santa Anna, Assistant General Counsel for Regulations, Room 10276, Department of Housing and Urban Development, 451 Seventh Street, SW., Washington, DC 20410-0500; telephone (202) 708-3055 (this is not a toll-free number). Hearing-or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers HUD's waiver-grant activity from October 1, 2002, through December 31, 2002. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during January 1, 2003, through March 31, 2003.

Accordingly, information about approved waiver requests pertaining to HUD regulations is provided in the Appendix that follows this notice.

Dated: March 27, 2003.
Alphonso Jackson,
Deputy Secretary.

Appendix—Listing of Waivers of Regulatory Requirements Granted by Offices of the Department of Housing and Urban Development October 1, 2002, Through December 31, 2002

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following waiver actions, please see the name of the contact person who immediately follows the description of the waiver granted.

• Regulations: 24 CFR 574.625(b)(1).

Project/Activity: A recipient of grant funds from HUD's Housing Opportunities for Persons with AIDS (HOPWA) requested a waiver of the conflict of interest disclosure provision.

Nature of Requirement: This provision requires the grantee to disclose the nature of the conflict of interest, accompanied by an assurance that there has been public disclosure of the conflict and a description of how the public disclosure was made. This provision requires the grantee to publish the name of the person seeking the assistance and confidential health records regarding the individual.

Granted By: Roy A. Bernardi, Assistant Secretary for Community Planning and Development.

Date Granted: October 28, 2002.

Reasons Waived: HUD determined that there was good cause for granting the waiver to protect the name of the person seeking the assistance and the confidential medical information regarding the person seeking assistance. However, HUD did not waive the other factors/requirements in 24 CFR 574.625(b)(1) that must be considered prior to granting the exception. In addition, Section 7(q)(3) of the Department of Housing and Urban Development Act requires HUD to publish notice in the Federal Register of all waivers of regulations approved by HUD. Because of the possibility that the publication of this waiver could be used to identify the affected individual, HUD will publish the waiver request without identifying the grantee.

Contact: Cornelia Robertson-Terry, Office of Community Planning and Development, Room 7152, Department of Housing and Urban Development, 451 Seventh Street, SW., Washington, DC 20410; telephone: (202) 708-2565, extension 4556.

• Regulations: 24 CFR 576.35(a)(1), 24 CFR 576.35(a)(2)(i), 24 CFR 576.35(a)(2)(ii).

Project/Activity: The city of Clinton, IA, requested a waiver of the provisions governing the obligation and expenditure of Emergency Shelter Grant (ESG) funds.

Nature of Requirement: Section 576.35(a)(1) requires each state to make available to its state recipients all emergency shelter grant amounts that it was allocated within 65 days of the date of the grant award by HUD. Funds set aside by a state for homeless prevention activities must be made available to state recipients within 180 days of the grant award. Section 576.35 (a)(2)(i) requires each state recipient of ESG funds to have its grant funds obligated within 180 days of the date on which the state made the grant amounts available to state recipients. In the case of grants for homeless prevention activities, state recipients are required to obligate grant amounts within 30 days of the date on which the state has made the grant amount available. Section 576.35(a)(2)(ii) requires each state recipient to spend all of its grant amounts within 24 months of the date on which the state made the grant amounts available to the state recipient. In the case of grants for homeless prevention activities, state recipients must spend such sums within 180 days of the date on which the state made the grant amount available.

Granted By: Roy A. Bernardi, Assistant Secretary for Community Planning and Development.

Date Granted: November 22, 2002.

Reasons Waived: The state suspended the city of Clinton's receipt of ESG funding for Fiscal Year (FY) 2001 and FY 2002 to prevent any reoccurrences of violations by the Victory Center Rescue Mission. This delayed the program until HUD could determine that the recipient could continue to receive ESG funding with the state's continued oversight.

Contact: Cornelia Robertson-Terry, Office of Community Planning and Development, Room 7152, Department of Housing and Urban Development, 451 Seventh Street, SW., Washington, DC 20410; telephone: (202) 708-2565, extension 4556.

• Regulations: 24 CFR 582.105(e).

Project/Activity: Alameda County, CA, requested a waiver of the eight percent administrative cap for its 1996 Shelter Plus Care grant.

Nature of Requirement: Section 582.105(e) allows the grantee to expend up to eight percent of the grant amount to pay the costs of administering the housing assistance.

Granted By: Roy A. Bernardi, Assistant Secretary for Community Planning and Development.

Date Granted: November 18, 2002.

Reasons Waived: The waiver is granted because the county will be able to serve the same number of households that was originally anticipated for an additional period of time with no increase in funds. The county will be allowed to expend an additional five percent for a total of thirteen percent of its grant for administrative costs. The grant was expected to assist 35 households at a time. However, the grant has assisted approximately 63 households over the course of the grant. The county intends to serve the same number of households that was originally anticipated for an additional period of time with no increase in funds.

Contact: Cornelia Robertson-Terry, Office of Community Planning and Development, Room 7152, Department of Housing and Urban Development, 451 Seventh Street, SW., Washington, DC 20410; telephone: (202) 708-2565, extension 4556.

II. Regulatory Waivers Granted by the Office of Housing

For further information about the following waivers actions, please see the name of the contact person who immediately follows the description of the waiver granted.

• Regulation: 24 CFR 200.54(a).

Project/Activity: Northstar Apartments, Raymondville, TX; Project Number: 115-35425.

Nature of Requirement: Section 200.54(a) establishes the procedures for a pro-rata disbursement of the mortgagor's front money escrow funds and Federal Housing Administration (FHA) insured proceeds for the subject property.

Granted By: John C. Weicher, Assistant Secretary for Housing-Federal Housing Commissioner.

Date Granted: October 22, 2002.

Reason Waived: The regulation was waived since the front money escrow is so large, the insured proceeds would not be disbursed for several months, resulting in payment of extension fees to the investors who purchased the Government National Mortgage Association (GNMA) mortgage-backed securities. Providing a waiver of 24 CFR 200.54(a) permitted the San Antonio Multifamily Program Center to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Presbyterian Villages North, Pontiac, MI; Project Number: 044-35566.

Nature of Requirement: Section 200.54(a) establishes the procedures for a pro-rata disbursement of the mortgagor's front money escrow funds and FHA-insured proceeds for the subject property.

Granted By: John C. Weicher, Assistant Secretary for Housing-Federal Housing Commissioner.

Date Granted: October 23, 2002.

Reason Waived: The regulation was waived since the front money escrow is so large, the insured proceeds would not be disbursed for several months, resulting in payment of extension fees to the investors who purchased GNMA mortgage-backed securities. Providing a waiver of 24 CFR 200.54(a) permitted the Detroit Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Iodent Lofts, Detroit, MI; Project Number: 044-32041.

Nature of Requirement: Section 200.54(a) establishes the procedures for a pro-rata disbursement of the mortgagor's front money escrow funds and FHA-insured proceeds for the subject property.

Granted By: John C. Weicher, Assistant Secretary for Housing-Federal Housing Commissioner.

Date Granted: October 29, 2002.

Reason Waived: The regulation was waived since the front money escrow is so large, the insured proceeds would not be disbursed for several months, resulting in payment of extension fees to the investors who purchased GNMA mortgage-backed securities. Providing a waiver of 24 CFR 200.54(a) permitted the Detroit Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Ashley Courts at Cascade Apartments, Phase III, Atlanta, GA; Project Number: 061-35545.

Nature of Requirement: Section 200.54(a) establishes the procedures for a pro-rata disbursement of the mortgagor's front money escrow funds and FHA-insured proceeds for the subject property.

Granted By: John C. Weicher, Assistant Secretary for Housing-Federal Housing Commissioner.

Date Granted: November 14, 2002.

Reason Waived: The regulation was waived since the front money escrow is so large, the insured proceeds would not be disbursed for several months, resulting in payment of extension fees to the investors who purchased GNMA mortgage-backed securities. Providing a waiver of 24 CFR 200.54(a) permitted the Atlanta Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Springdale Estates, Austin, TX; Project Number: 115-35427.

Nature of Requirement: Section 200.54(a) establishes the procedures for a pro-rata disbursement of the mortgagor's front money escrow funds and FHA-insured proceeds for the subject property.

Granted By: John C. Weicher, Assistant Secretary for Housing-Federal Housing Commissioner.

Date Granted: November 25, 2002.

Reason Waived: The regulation was waived since the front money escrow is so large, the insured proceeds would not be disbursed for several months, resulting in payment of extension fees to the investors who purchased GNMA mortgage-backed securities. Providing a waiver of 24 CFR 200.54(a) permitted the Fort Worth Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: Greenlaw Renaissance Apartments, Memphis, TN; Project Number: 081-35238.

Nature of Requirement: Section 200.54(a) establishes the procedures for a pro-rata disbursement of the mortgagor's front money escrow funds and FHA-insured proceeds for the subject property.

Granted By: John C. Weicher, Assistant Secretary for Housing-Federal Housing Commissioner.

Date Granted: December 11, 2002.

Reason Waived: The regulation was waived since the front money escrow is so large, the insured proceeds would not be disbursed for several months, resulting in payment of extension fees to the investors who purchased GNMA mortgage-backed securities. Providing a waiver of 24 CFR 200.54(a) permitted the Nashville Multifamily Program Center to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 200.54(a).

Project/Activity: The Village at Carver, Phase II, Atlanta, GA; Project Number: 061-35552.

Nature of Requirement: Section 200.54(a) establishes the procedures for a pro-rata disbursement of the mortgagor's front money escrow funds and FHA-insured proceeds for the subject property.

Granted By: John C. Weicher, Assistant Secretary for Housing-Federal Housing Commissioner.

Date Granted: December 15, 2002.

Reason Waived: The regulation was waived since the front money escrow is so large, the insured proceeds would not be disbursed for several months, resulting in payment of extension fees to the investors who purchased GNMA mortgage-backed securities. Providing a waiver of 24 CFR 200.54(a) permitted the Atlanta Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-7000; telephone: (202) 708-1142.

• Regulation: 24 CFR 401.600.

Project/Activity: The following projects requested waivers to the 12-month limit at above-market rents (24 CFR 491.600):

FHA No. | Project name | State
06235361 | Angel Apartments | AL
05935106 | Augustine Park Apartments | LA
08435239 | Brookfield Village | MO
05235336 | Burton Manor | MD
04335257 | Calumet/Horizon | OH
01436041 | Cayuga Village | NY
01257080 | Concourse Plaza | MD
06235362 | Cornelius Apartments | AL
06135562 | Dodge Court Apartments | GA
08235225 | Eastview Terrace Apartment | AR
04635519 | Eddy's Apartments | OH
01335108 | Genesee Towers | NY
05435455 | Glenfield Apartments | SC
01257164 | Jerome Terrace Apartments | NY
04235362 | Lakeview Estates | OH
10935049 | LaPrete Apartments | WY
03135177 | Lexington Manor | NJ
08735120 | Lynnridge Apartments | TN
01257121 | Maria Estela I | NY
06535314 | Meadowbrook Apartments | MS
04635543 | Mt. Carmel (aka Lebanon Village aka Greentree) | OH
04235302 | Nela Manor | OH
06535330 | New Main Apartments | MS
05435389 | Newberry Arms Apartments | SC
12235452 | Palmdale East Q | CA
04232011 | Park Lane Villa | OH
01257167 | Parkview Residence | NY
04735129 | Peterson Apartments | MI
05110508 | Pinebrook Village Apartments | VA
01235403 | Plaza Apartments | NY
11535233 | Poesta Creek Apartments | TX
08535314 | Portageville Apartments | MO
00035341 | Southern Hills Apartments | DC
04235504 | Southwesterly Apartments | OH
14335075 | Virginia Terrace | CA
04235298 | Vistula Heritage Village | OH

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: October 4, 2002.

Reason Waived: The projects listed above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, SW., Washington, DC 20410; telephone (202) 708-0001.

• Regulation: 24 CFR 401.600.

Project/Activity: The following projects requested waivers to the 12-month limit at above-market rents (24 CFR 491.600):

FHA No. | Project name | State
06235310 | Birmingham Towers | AL
06435015 | Capital City South Apartments | LA
05235337 | Cedar Hill Apartments | MD
01435043 | Cedargrove Heights Apartments | NY
07335407 | Gary NSA I & II | IN
08435212 | Hyde Park Apartments | MO
11235308 | Longview Square Apartments | TX
03335249 | New Brighton Elderly Apartments | PA
01335086 | Northcliffe Apartments | NY
06735235 | Oceanside Estates | FL
05935200 | Parish Square Apartments | LA
01257156 | Rochester Manor Apartments | NY
02435036 | Round Barn Apartments | VT
11735155 | Southgate Village | OK
08435196 | Sullivan Hall | MO
04235286 | University Towers | OH
11738005 | Wesley Village | OK
05335296 | Yadkin House | NC

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: November 7, 2002.

Reason Waived: The projects listed above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, SW., Washington, DC 20410; telephone (202) 708-0001.

• Regulation: 24 CFR 401.600.

Project/Activity: The following projects requested waivers to the 12-month limit at above-market rents (24 CFR 491.600):

FHA No. | Project name | State
01335078 | Brick School Terrace (aka 16th Apts.) | NY
08535299 | Cabool Apartments | MO
04235356 | Center Towers | OH
02435040 | Chestnut Place | ME
06102006 | Cumberland Oaks Apartments | GA
12235514 | Foothill Terrace | CA
08535300 | Kennett Apartments | MO
08435229 | Lawndale Heights Apartments | MO
06535334 | Moorhead Manor Apartments | MS
04235354 | Newton Manor | OH
08435240 | North Valley Townhomes | MO
01335076 | Ogden Mills Apartments (10th Apts.) | NY
06535333 | Pendleton Square | MS
04635532 | The Biltmore | OH
02335239 | The Weldon | MA
08335238 | Tug Fork Apartments | KY
12535081 | Walnut Gardens | NV
08435203 | Woodlen Place Apartments | MO

Nature of Requirement: Section 401.600 requires that projects be marked down to market rents within 12 months of their first expiration date after January 1, 1998. The intent of this provision is to ensure timely processing of requests for restructuring, and that the properties will not default on their FHA-insured mortgages during the restructuring process.

Granted By: John C. Weicher, Assistant Secretary for Housing-Federal Housing Commissioner.

Date Granted: December 11, 2002.

Reason Waived: The projects listed above were not assigned to the participating administrative entities (PAEs) in a timely manner or for which the restructuring analysis was unavoidably delayed due to no fault of the owner.

Contact: Alberta Zinno, Office of Multifamily Housing Assistance Restructuring, Department of Housing and Urban Development, Portals Building, Suite 400, 1280 Maryland Avenue, SW., Washington, DC 20410; telephone (202) 708-0001.

• Regulation: 24 CFR 891.100(d).

Project/Activity: AIDSCARE, Incorporated, Chicago, IL; Project Number: 071-HD119/IL06-Q001-005.

Nature of Requirement: Section 891.100(d) prohibits amendment of the amount of approved capital advance funds prior to initial closing.

Granted By: John C. Weicher, Assistant Secretary for Housing-Federal Housing Commissioner.

Date Granted: October 15, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Kane Cook Homes, Yorkville, IL; Project Number: 071-HD117/Il06-Q001-002.

Nature of Requirement: Section 891.100(d) prohibits amendment of the amount of approved capital advance funds prior to initial closing.

Granted By: John C. Weicher, Assistant Secretary for Housing-Federal Housing Commissioner.

Date Granted: October 16, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Millenium Place, Amherst, NY; Project Number: 014-HD093/NY06-Q001-003.

Nature of Requirement: Section 891.100(d) prohibits amendment of the amount of approved capital advance funds prior to initial closing.

Granted By: John C. Weicher, Assistant Secretary for Housing-Federal Housing Commissioner.

Date Granted: October 16, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Harvard Square, Irvine, CA; Project Number: 143-HD011/CA43-Q001-001.

Nature of Requirement: Section 891.100(d) prohibits amendment of the amount of approved capital advance funds prior to initial closing.

Granted By: John C. Weicher, Assistant Secretary for Housing-Federal Housing Commissioner.

Date Granted: October 29, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Seneca County Volunteers of America (VOA), Tiffin, OH; Project Number: 042-EE120/OH12-S001-004.

Nature of Requirement: Section 891.100(d) prohibits amendment of the amount of approved capital advance funds prior to initial closing.

Granted By: John C. Weicher, Assistant Secretary for Housing-Federal Housing Commissioner.

Date Granted: November 6, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Bridgeway Apartments, Phase II, Picayune, MS; Project Number: 065-HD025/MS26-Q001-002.

Nature of Requirement: Section 891.100(d) prohibits amendment of the amount of approved capital advance funds prior to initial closing.

Granted By: John C. Weicher, Assistant Secretary for Housing-Federal Housing Commissioner.

Date Granted: November 6, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Belleville Non-Profit Housing, Belleville, MI; Project Number: 044-EE077/MI28-S011-003.

Nature of Requirement: Section 891.100(d) prohibits amendment of the amount of approved capital advance funds prior to initial closing.

Granted By: John C. Weicher, Assistant Secretary for Housing-Federal Housing Commissioner.

Date Granted: November 7, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Saint Teresa of Avila Senior Housing, Brooklyn, NY; Project Number: 012-EE300/NY36-S001-015.

Nature of Requirement: Section 891.100(d) prohibits amendment of the amount of approved capital advance funds prior to initial closing.

Granted By: John C. Weicher, Assistant Secretary for Housing-Federal Housing Commissioner.

Date Granted: November 25, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: AHEPA 23-III Apartments, Incorporated, Montgomery, AL; Project Number: 062-EE046/AL09-S001-002.

Nature of Requirement: Section 891.100(d) prohibits amendment of the amount of approved capital advance funds prior to initial closing.

Granted By: John C. Weicher, Assistant Secretary for Housing-Federal Housing Commissioner.

Date Granted: November 25, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Hillsborough County VOA Living Center III, Tampa, FL; Project Number: 067-HD080/FL29-Q001-005.

Nature of Requirement: Section 891.100(d) prohibits amendment of the amount of approved capital advance funds prior to initial closing.

Granted By: John C. Weicher, Assistant Secretary for Housing-Federal Housing Commissioner.

Date Granted: December 9, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Crossroads Housing, Onawa, IA; Project Number: 074-HD023/IA05-Q011-001.

Nature of Requirement: Section 891.100(d) prohibits amendment of the amount of approved capital advance funds prior to initial closing.

Granted By: John C. Weicher, Assistant Secretary for Housing-Federal Housing Commissioner.

Date Granted: December 10, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: Young Men's Christian Association (YMCA) of Metropolitan Chicago, Chicago, IL; Project Number: 071-EE141/IL06-S981-002.

Nature of Requirement: Section 891.100(d) prohibits amendment of the amount of approved capital advance funds prior to initial closing.

Granted By: John C. Weicher, Assistant Secretary for Housing-Federal Housing Commissioner.

Date Granted: December 11, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d).

Project/Activity: New Visions, Louisville, KY; Project Number: 083-HD060/KY36-Q001-001.

Nature of Requirement: Section 891.100(d) prohibits amendment of the amount of approved capital advance funds prior to initial closing.

Granted By: John C. Weicher, Assistant Secretary for Housing-Federal Housing Commissioner.

Date Granted: December 18, 2002.

Reason Waived: The sponsor obtained a grant from the city of Louisville in the amount of $100,000. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CRF 891.100(d).

Project/Activity: Geneva Avenue Elderly Housing, Dorchester, MA; Project Number: 023-EE110/MA06-S991-004.

Nature of Requirement: Section 891.100(d) prohibits amendment of the amount of approved capital advance funds prior to initial closing.

Granted By: John C. Weicher, Assistant Secretary for Housing-Federal Housing Commissioner.

Date Granted: December 24, 2002.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410; telephone: (202) 708-3000.

• Regulation: 24 CFR 891.100(d). and 24 CFR 891.165.

Project/Activity: Dogwood Terrace, Florence, AL; Project Number: 062-HD043/AL09-Q991-002.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: November 6, 2002.

Reason Waived: The sponsor exhausted all efforts to obtain additional funding. The project is economically designed and is comparable in cost to similar projects developed in the area. Additional time was needed for the firm commitment to be issued.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Oxford Trace Apartments, San Antonio, TX; Project Number: 115-HD028/TX59-Q991-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: November 19, 2002.

Reason Waived: The sponsor exhausted all efforts to obtain additional funding. The project is economically designed and is comparable in cost to similar projects developed in the area. In addition, the long-time president of the nonprofit resigned, a new builder was hired, and additional time was needed to obtain building permits. Further, the city of San Antonio required a fairly extensive and costly drainage system surrounding the site.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: VOA Pineville, Pineville, LA; Project Number: 064-HD055/LA48-Q001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: November 25, 2002.

Reason Waived: The sponsor exhausted all efforts to obtain additional funding. The project is economically designed and is comparable in cost to similar projects developed in the area. Additional time was needed for the firm commitment to be reprocessed.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Bevins Court, Lakeport, CA; Project Number: 121-HD069/CA39-Q991-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: December 20, 2002.

Reason Waived: The sponsor exhausted all efforts to obtain additional funding. The project is economically designed and is comparable in cost to similar projects developed in the area. In addition, project experienced delays with the city of Lakeport in the local design review and approval process.

Contact: Willie Spearmon, Director, Office of Housing Assistance and Grant Administration, Department of Housing and Urban Development, 451 Seventh Street, SW., Washington, DC 20410; telephone: (202) 708-3000.

• Regulation: 24 CFR 891(d) and 24 CFR 891.165.

Project/Activity: Elmwood House II, Evesham Township, NJ; Project Number: 035-EE043/NJ39-S001-005.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: December 18, 2002.

Reason Waived: The sponsor exhausted all efforts to obtain additional funding. The project is economically designed and is comparable in cost to similar projects developed in the area. Additional time was needed for the owner to attempt to locate additional funds.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Rotary Village II, Del Rio, TX; Project Number: 115-EE057/TX59-S001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: December 24, 2002.

Reason Waived: The sponsor exhausted all efforts to obtain additional funding. The project is economically designed and is comparable in cost to similar projects developed in the area. Additional time was needed for the owner to attempt to locate additional funds and to find a qualified contractor.

Contact: Willie Spearmon, Director, Office of Housing Assistance and Grant Administration, Department of Housing and Urban Development, 451 Seventh Street, SW., Washington, DC 20410; telephone: (202) 708-3000.

• Regulation: 24 CFR 891.100(d) and 24 CFR 891.165.

Project/Activity: Columbia Gardens, Caldwell, ID; Project Number: 124-HD008/ID16-Q001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: December 27, 2002.

Reason Waived: The sponsor exhausted all efforts to obtain additional funding. The project is economically designed and is comparable in cost to similar projects developed in the area. Additional time was needed to obtain clearance from the Advisory Council on Historic Preservation (SHPO) in the state of Idaho.

Contact: Willie Spearmon, Director, Office of Housing Assistance and Grant Administration, Department of Housing and Urban Development, 451 Seventh Street, SW., Washington, DC 20410; telephone: (202) 708-3000.

• Regulation: 24 CFR 891.165.

Project/Activity: St. Joseph's Medical Center Senior Housing, Yonkers, NY; Project Number: 012-EE265/NY36-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 2, 2002.

Reason Waived: The local approval process delayed the completion of the working drawings and additional time was needed for HUD to complete the processing of the firm commitment application.

Contact: Willie Spearmon, Director, Office of Housing Assistance and Grant Administration, Department of Housing and Urban Development, 451 Seventh Street, SW., Washington, DC 20410; telephone: (202) 708-3000.

• Regulation: 24 CFR 891.165.

Project/Activity: Mount St. Mary's, Tonawanda, NY; Project Number: 014-EE198/NY06-S001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 10, 2002.

Reason Waived: The sponsor needed more time to secure additional funding, submit the firm commitment application, and to proceed to initial closing.

Contact: Willie Spearmon, Director, Office of Housing Assistance and Grant Administration, Department of Housing and Urban Development, 451 Seventh Street, SW., Washington, DC 20410; telephone: (202) 708-3000.

• Regulation: 24 CFR 891.165.

Project/Activity: Laurel Commons, Laurel, DE; Project Number: 032-EE009/DE26-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 22, 2002.

Reason Waived: The project was delayed because additional time was needed for the Town of Laurel to approve the final subdivision of the project site prior to initial closing.

Contact: Willie Spearmon, Director, Office of Housing Assistance and Grant Administration, Department of Housing and Urban Development, 451 Seventh Street, SW., Washington, DC 20410; telephone: (202) 708-3000.

• Regulation: 24 CFR 891.165.

Project/Activity: George and Lois Brown Estates, Henderson, NV; Project Number: 125-HD067/NV25-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2002.

Reason Waived: Before issuing a firm commitment and proceeding with initial closing, additional time was needed to review and revise the pro-forma policy of title insurance, survey, surveyor's report, and architect agreement.

Contact: Willie Spearmon, Director, Office of Housing Assistance and Grant Administration, Department of Housing and Urban Development, 451 Seventh Street, SW., Washington, DC 20410; telephone: (202) 708-3000.

• Regulation: 24 CFR 891.165.

Project/Activity: The Orange County Two-Site Project, Town of Hamptonbur, NY; Project Number: 012-HD091/NY36-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2002.

Reason Waived: The owner needed additional time to obtain a building permit.

Contact: Willie Spearmon, Director, Office of Housing Assistance and Grant Administration, Department of Housing and Urban Development, 451 Seventh Street, SW., Washington, DC 20410; telephone: (202) 708-3000.

• Regulation: 24 CFR 891.165.

Project/Activity: La Playa Apartments, San Francisco, CA; Project Number: 121-HD065/CA39-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2002.

Reason Waived: The project experienced delays because additional time was needed to resolve a protest brief, which was filed with the city and courts of San Francisco by the Ocean Beach Condominiums Homeowners Association.

Contact: Willie Spearmon, Director, Office of Housing Assistance and Grant Administration, Department of Housing and Urban Development, 451 Seventh Street, SW., Washington, DC 20410; telephone: (202) 708-3000.

• Regulation: 24 CFR 891.165.

Project/Activity: A. Kornegay Senior Housing, New York, NY; Project Number: 012-EE303/NY36-S001-018.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 29, 2002.

Reason Waived: The project encountered delays while undergoing the local approval process.

Contact: Willie Spearmon, Director, Office of Housing Assistance and Grant Administration, Department of Housing and Urban Development, 451 Seventh Street, SW., Washington, DC 20410; telephone: (202) 708-3000.

• Regulation: 24 CFR 891.165.

Project/Activity: Monarch Housing, Santa Cruz, CA; Project Number: 121-HD071/CA39-Q991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: October 30, 2002.

Reason Waived: HUD needed additional time to process the initial closing documents.

Contact: Willie Spearmon, Director, Office of Housing Assistance and Grant Administration, Department of Housing and Urban Development, 451 Seventh Street, SW., Washington, DC 20410; telephone: (202) 708-3000.

• Regulation: 24 CFR 891.165.

Project/Activity: Hale O Mana'o Lana Hou II, Wailuku, Maui, HI; Project Number: 140-HD015/HI110-Q961-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 4, 2002.

Reason Waived: The project incurred delays because additional time was needed to issue the firm commitment, review the initial closing documents, and close the project.

Contact: Willie Spearmon, Director, Office of Housing Assistance and Grant Administration, Department of Housing and Urban Development, 451 Seventh Street, SW., Washington, DC 20410; telephone: (202) 708-3000.

• Regulation: 24 CFR 891.165.

Project/Activity: Cottonwood Manor VI, Cottonwood, AZ; Project Number: 123-EE069/AZ20-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 4, 2002.

Reason Waived: The sponsor needed additional time to secure additional funds.

Contact: Willie Spearmon, Director, Office of Housing Assistance and Grant Administration, Department of Housing and Urban Development, 451 Seventh Street, SW., Washington, DC 20410; telephone: (202) 708-3000.

• Regulation: 24 CFR 891.165.

Project/Activity: Nashville Supportive Housing Development, Nashville-Davidson, TN; Project Number: 086-HD016/TN43-Q971-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 4, 2002.

Reason Waived: The sponsor needed additional time to obtain additional funds from other sources.

Contact: Willie Spearmon, Director, Office of Housing Assistance and Grant Administration, Department of Housing and Urban Development, 451 Seventh Street, SW., Washington, DC 20410; telephone: (202) 708-3000.

• Regulation: 24 CFR 891.165.

Project/Activity: Brandon Apartments, Brandon, Hillsborough County, FL; Project Number: 067-HD066/FL29-Q991-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: The sponsor experienced multiple delays due to site control problems, design issues, and cost overruns. Additional time was needed to prepare and review closing documents and to reach initial closing.

Contact: Willie Spearmon, Director, Office of Housing Assistance and Grant Administration, Department of Housing and Urban Development, 451 Seventh Street, SW., Washington, DC 20410; telephone: (202) 708-3000.

• Regulation: 24 CFR 891.165.

Project/Activity: Stephen's County Village, Gulfport, MS; Project Number: 065-EE031/MS26-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: The project experienced delays due to the removal of one of the sponsors, and the subsequent loss of the site. Additional time was needed to allow the project's owner to prepare and submit the firm commitment application and for HUD to complete the technical processing.

Contact: Willie Spearmon, Director, Office of Housing Assistance and Grant Administration, Department of Housing and Urban Development, 451 Seventh Street, SW., Washington, DC 20410; telephone: (202) 708-3000.

• Regulation: 24 CFR 891.165.

Project/Activity: OBED Apartments, North Providence, RI; Project Number: 016-HD025/RI43-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: The project experienced delays due to litigation involving a zoning variance.

Contact: Willie Spearmon, Director, Office of Housing Assistance and Grant Administration, Department of Housing and Urban Development, 451 Seventh Street, SW., Washington, DC 20410; telephone: (202) 708-3000.

• Regulation: 24 CFR 891.165.

Project/Activity: ProCAP Housing, Providence, RI; Project Number: 016-HD030/RI43-Q991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: The project experienced delays due to a site change. Delays were also experienced because of the lengthy process for acquiring sites from the Providence Redevelopment Authority.

Contact: Willie Spearmon, Director, Office of Housing Assistance and Grant Administration, Department of Housing and Urban Development, 451 Seventh Street, SW., Washington, DC 20410; telephone: (202) 708-3000.

• Regulation: 24 CFR 891.165.

Project/Activity: Accessible Space, Incorporated, Birmingham, AL; Project Number: 062-HD041/AL09-Q981-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: Additional time was needed for HUD to process the firm commitment application in order for the project to reach initial closing.

Contact: Willie Spearmon, Director, Office of Housing Assistance and Grant Administration, Department of Housing and Urban Development, 451 Seventh Street, SW., Washington, DC 20410; telephone: (202) 708-3000.

• Regulation: 24 CFR 891.165.

Project/Activity: Pelican Lake Housing Corporation, Eagle River, WI; Project Number: 075-HD066/WI39-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 6, 2002.

Reason Waived: The project experienced delays due to the need to redesign the building bringing the project costs within the capital advance budget. Additional time was needed to pursue fund raising activities to cover budget shortfalls.

Contact: Willie Spearmon, Director, Office of Housing Assistance and Grant Administration, Department of Housing and Urban Development, 451 Seventh Street, SW., Washington, DC 20410; telephone: (202) 708-3000.

• Regulation: 24 CFR 891.165.

Project/Activity: Ada S. McKinley IV, Chicago, IL; Project Number: 071-HD110/IL06-Q981-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 14, 2002.

Reason Waived: Additional time was needed for the receipt and processing of the firm commitment application, for issuance of the firm commitment, and for the project to proceed to initial closing.

Contact: Willie Spearmon, Director, Office of Housing Assistance and Grant Administration, Department of Housing and Urban Development, 451 Seventh Street, SW., Washington, DC 20410; telephone: (202) 708-3000.

• Regulation: 24 CFR 891.165.

Project/Activity: Providence Gamelin House, Seattle, WA; Project Number: 127-EE028/WA19-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 25, 2002.

Reason Waived: The project experienced delays due to litigation and environmental issues beyond the sponsor's control.

Contact: Willie Spearmon, Director, Office of Housing Assistance and Grant Administration, Department of Housing and Urban Development, 451 Seventh Street, SW., Washington, DC 20410; telephone: (202) 708-3000.

• Regulation: 24 CFR 891.165.

Project/Activity: Pensdale Apartments (a/k/a 4200 Mitchell Street), Philadelphia, PA; Project Number: 034-EE100/PA26-S991-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 25, 2002.

Reason Waived: The project experienced delays due to the timing and execution of the relocation of the remaining commercial tenants.

Contact: Willie Spearmon, Director, Office of Housing Assistance and Grant Administration, Department of Housing and Urban Development, 451 Seventh Street, SW., Washington, DC 20410; telephone: (202) 708-3000.

• Regulation: 24 CFR 891.165.

Project/Activity: Ghost Creek Housing, River Falls, WI; Project Number: 075-HD067/WI39-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 26, 2002.

Reason Waived: The project was delayed due to litigation involving a zoning variance for the site.

Contact: Willie Spearmon, Director, Office of Housing Assistance and Grant Administration, Department of Housing and Urban Development, 451 Seventh Street, SW., Washington, DC 20410; telephone: (202) 708-3000

• Regulation: 24 CFR 891.165.

Project/Activity: Coalport Senior Housing, Coalport, PA; Project Number: 033-EE102/PA28-S991-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 27, 2002.

Reason Waived: The sponsor needed more time to obtain additional financing. The project experienced delays because results of the test (soils) borings needed to be obtained.

Contact: Willie Spearmon, Director, Office of Housing Assistance and Grant Administration, Department of Housing and Urban Development, 451 Seventh Street, SW., Washington, DC 20410; telephone: (202) 708-3000.

• Regulation: 24 CFR 891.165.

Project/Activity: St. Teresa of Avila Senior Housing, Brooklyn, NY; Project Number: 012-EE300/NY36-S001-015.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: November 27, 2002.

Reason Waived: The owner needed additional time to obtain local approval for releasing a portion of a larger parcel of land owned by the sponsor.

Contact: Willie Spearmon, Director, Office of Housing Assistance and Grant Administration, Department of Housing and Urban Development, 451 Seventh Street, SW., Washington, DC 20410; telephone: (202) 708-3000.

• Regulation: 24 CFR 891.165.

Project/Activity: Morgan-Trevathan Apartments, Benton, KY; Project Number: 083-EE074/KY36-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 2, 2002.

Reason Waived: The sponsor/owner needed additional time to make revisions to the firm commitment application and to prepare for initial closing.

Contact: Willie Spearmon, Director, Office of Housing Assistance and Grant Administration, Department of Housing and Urban Development, 451 Seventh Street, SW., Washington, DC 20410; telephone: (202) 708-3000.

• Regulation: 24 CFR 891.165.

Project/Activity: Village Supervised Apartments, Hamilton Township, Atlantic County, NJ; Project Number: 035-HD034/NJ39-Q961-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 2, 2002.

Reason Waived: The project incurred delays due to a site change required in order for the project to comply with accessibility requirements.

Contact: Willie Spearmon, Director, Office of Housing Assistance and Grant Administration, Department of Housing and Urban Development, 451 Seventh Street, SW., Washington, DC 20410; telephone: (202) 708-3000.

• Regulation: 24 CFR 891.165.

Project/Activity: Iberia Place, New Iberia, LA; Project Number: 064-HD042/LA48-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 2, 2002.

Reason Waived: Additional time is needed for HUD to process the firm commitment application in order for the project to reach initial closing.

Contact: Willie Spearmon, Director, Office of Housing Assistance and Grant Administration, Department of Housing and Urban Development, 451 Seventh Street, SW., Washington, DC 20410; telephone: (202) 708-3000.

• Regulation: 24 CFR 891.165.

Project/Activity: Myrtle Davis Senior Complex, Milwaukee, WI; Project Number: 074-EE095/WI39-S001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 3, 2002.

Reason Waived: The owner needed additional time to resolve issues with the general contractor and to prepare the initial closing documents once the firm commitment was issued.

Contact: Willie Spearmon, Director, Office of Housing Assistance and Grant Administration, Department of Housing and Urban Development, 451 Seventh Street, SW., Washington, DC 20410; telephone: (202) 708-3000.

• Regulation: 24 CFR 891.165.

Project/Activity: Presbyterian Home at Stafford, Stafford Township, NJ; Project Number: 035-EE037/NJ39-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 4, 2002.

Reason Waived: The project has experienced delays due to numerous state and local reviews required to obtain local permits.

Contact: Willie Spearmon, Director, Office of Housing Assistance and Grant Administration, Department of Housing and Urban Development, 451 Seventh Street, SW., Washington, DC 20410; telephone: (202) 708-3000.

• Regulation: 24 CFR 891.165.

Project/Activity: Garden Grove Apartments, Milwaukee, WI; Project Number: 075-HD062/WI39-Q991-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 9, 2002.

Reason Waived: The sponsor needed additional time to resolve problems with the design of the building. Additional time was also needed to assemble the initial closing documents once the firm commitment was issued.

Contact: Willie Spearmon, Director, Office of Housing Assistance and Grant Administration, Department of Housing and Urban Development, 451 Seventh Street, SW., Washington, DC 20410; telephone: (202) 708-3000.

• Regulation: 24 CFR 891.165.

Project/Activity: JoMar of Zion, Oshkosh, WI; Project Number: 075-EE096/WI39-S001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 9, 2002.

Reason Waived: The sponsor needed additional time to assemble the initial closing documents once the firm commitment was issued.

Contact: Willie Spearmon, Director, Office of Housing Assistance and Grant Administration, Department of Housing and Urban Development, 451 Seventh Street, SW., Washington, DC 20410; telephone: (202) 708-3000.

• Regulation: 24 CFR 891.165.

Project/Activity: Fuller Gardens, San Leandro, CA; Project Number: 121-HD073/CA39-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 9, 2002.

Reason Waived: The project experienced delays because the owner needed additional time to resolve language associated with the mortgage note and deed of trust.

Contact: Willie Spearmon, Director, Office of Housing Assistance and Grant Administration, Department of Housing and Urban Development, 451 Seventh Street, SW., Washington, DC 20410; telephone: (202) 708-3000.

• Regulation: 24 CFR 891.165.

Project/Activity: Olympian Village II, Beloit, WI; Project Number: 075-EE099/WI39-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 9, 2002.

Reason Waived: The sponsor needed additional time to assemble the initial closing documents once the firm commitment was issued.

Contact: Willie Spearmon, Director, Office of Housing Assistance and Grant Administration, Department of Housing and Urban Development, 451 Seventh Street, SW., Washington, DC 20410; telephone: (202) 708-3000.

• Regulation: 24 CFR 891.165.

Project/Activity: The Connection, Incorporated (Home for the Brave), New Haven, CT; Project Number: 017-HD028-CT26-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 18, 2002.

Reason Waived: The sponsor/owner needed additional time to obtain the necessary gap financing.

Contact: Willie Spearmon, Director, Office of Housing Assistance and Grant Administration, Department of Housing and Urban Development, 451 Seventh Street, SW., Washington, DC 20410; telephone: (202) 708-3000.

• Regulation: 24 CFR 891.165.

Project/Activity: Luther Ridge, Middletown, CT; Project Number: 017-EE053/CT26-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 18, 2002.

Reason Waived: The project shares a site and building with a project financed by the state of Connecticut. The owner needs additional time to find a contractor that meets both Section 202 and Connecticut state requirements.

Contact: Willie Spearmon, Director, Office of Housing Assistance and Grant Administration, Department of Housing and Urban Development, 451 Seventh Street, SW., Washington, DC 20410; telephone: (202) 708-3000.

• Regulation: 24 CFR 891.165.

Project/Activity: Millennium Cudahy, Cudahy, WI; Project Number: 075-EE097/WI39-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 18, 2002.

Reason Waived: HUD discovered problems with the owner's board and development team that had to be resolved. The sponsor/owner needed additional time to assemble closing documents.

Contact: Willie Spearmon, Director, Office of Housing Assistance and Grant Administration, Department of Housing and Urban Development, 451 Seventh Street, SW., Washington, DC 20410; telephone: (202) 708-3000.

• Regulation: 24 CFR 891.165.

Project/Activity: Geneva Avenue Elderly Housing, Dorchester, MA; Project Number: 023-EE110/MA06-S991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 18, 2002.

Reason Waived: The project experienced delays because the owner needed to revise the plans to include an additional elevator to accommodate the residents.

Contact: Willie Spearmon, Director, Office of Housing Assistance and Grant Administration, Department of Housing and Urban Development, 451 Seventh Street, SW., Washington, DC 20410; telephone: (202) 708-3000.

• Regulation: 24 CFR 891.165.

Project/Activity: Millennium Janesville I, Janesville, WI; Project Number: 075-EE100/WI39-S001-008.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 20, 2002.

Reason Waived: HUD discovered problems with the owner's board and development team that had to be resolved. The sponsor/owner needed additional time to assemble closing documents.

Contact: Willie Spearmon, Director, Office of Housing Assistance and Grant Administration, Department of Housing and Urban Development, 451 Seventh Street, SW., Washington, DC 20410; telephone: (202) 708-3000.

• Regulation: 24 CFR 891.165.

Project/Activity: Pathways, Greenwich, CT; CA, Project Number: 017-HD022/CT26-Q981-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 24, 2002.

Reason Waived: The project experienced delays due to litigation.

Contact: Willie Spearmon, Director, Office of Housing Assistance and Grant Administration, Department of Housing and Urban Development, 451 Seventh Street, SW., Washington, DC 20410; telephone: (202) 708-3000.

• Regulation: 24 CFR 891.165.

Project/Activity: ASI-Jackson County, Medford, OR; Project Number: 126-HD028/OR16-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 24, 2002.

Reason Waived: The owner needed additional time before the revised Davis-Bacon wage rates were issued. Also, additional time was needed for the contractor to re-bid the subcontractor work, and for submission of a revised cost breakdown.

Contact: Willie Spearmon, Director, Office of Housing Assistance and Grant Administration, Department of Housing and Urban Development, 451 Seventh Street, SW., Washington, DC 20410; telephone: (202) 708-3000.

• Regulation: 24 CFR 891.165.

Project/Activity: St. Andrews of Jennings Phase II Apartments, Jennings, MO; Project Number: 085-EE049/MO36-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The project had incurred delays while waiting for the partial release of land from St. Andrews of Jennings Phase I to be approved.

Contact: Willie Spearmon, Director, Office of Housing Assistance and Grant Administration, Department of Housing and Urban Development, 451 Seventh Street, SW., Washington, DC 20410; telephone: (202) 708-3000.

• Regulation: 24 CFR 891.165.

Project/Activity: TELACU-Pico Rivera, Pico Rivera, CA; Project Number: 122-EE170/CA16-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: HUD needed additional time to review the initial closing documents.

Contact: Willie Spearmon, Director, Office of Housing Assistance and Grant Administration, Department of Housing and Urban Development, 451 Seventh Street, SW., Washington, DC 20410; telephone: (202) 708-3000.

• Regulation: 24 CFR 891.165.

Project/Activity: Villa Seton, Port St. Lucie, FL; Project Number: 067-EE107/FL29-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The sponsor needed additional time to redesign the project and re-bid the construction contract in order to reduce project costs.

Contact: Willie Spearmon, Director, Office of Housing Assistance and Grant Administration, Department of Housing and Urban Development, 451 Seventh Street, SW., Washington, DC 20410; telephone: (202) 708-3000.

• Regulation: 24 CFR 891.165.

Project/Activity: Hunterdon Consumer Home, East Amwell, NJ; Project Number: 031-HD121/NJ39-Q001-012.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The sponsor had to locate an alternate site. The historical preservation determination was not received until July 2002.

Contact: Willie Spearmon, Director, Office of Housing Assistance and Grant Administration, Department of Housing and Urban Development, 451 Seventh Street, SW., Washington, DC 20410; telephone: (202) 708-3000.

• Regulation: 24 CFR 891.165.

Project/Activity: Roselawn Village Apartments, Minneapolis, MN; Project Number: 092-HD053/MN46-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The sponsor needed to obtain letters of assurance from the Minnesota Pollution Control Agency concerning the risk of the low-level ground water contamination. In addition, the project experienced delays while testing was being performed.

Contact: Willie Spearmon, Director, Office of Housing Assistance and Grant Administration, Department of Housing and Urban Development, 451 Seventh Street, SW., Washington, DC 20410; telephone: (202) 708-3000.

• Regulation: 24 CFR 891.165.

Project/Activity: Skyline Apartments, Napa, CA; Project Number: 121-HD074/CA39-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The project experienced delays due to extensive negotiations with the state on the terms of the lease agreement.

Contact: Willie Spearmon, Director, Office of Housing Assistance and Grant Administration, Department of Housing and Urban Development, 451 Seventh Street, SW., Washington, DC 20410; telephone: (202) 708-3000.

• Regulation: 24 CFR 891.165.

Project/Activity: Bakersfield Senior Housing, Bakersfield, CA; Project Number: 122-EE164/CA16-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The owner needed additional time to reduce the cost of the project.

Contact: Willie Spearmon, Director, Office of Housing Assistance and Grant Administration, Department of Housing and Urban Development, 451 Seventh Street, SW., Washington, DC 20410; telephone: (202) 708-3000.

• Regulation: 24 CFR 891.165.

Project/Activity: Cantebria Senior Housing, Encinitas, CA; Project Number: 129-EE021/CA33-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 27, 2002.

Reason Waived: The project experienced delays because additional time was needed for the secondary financing documents to be revised and reviewed.

Contact: Willie Spearmon, Director, Office of Housing Assistance and Grant Administration, Department of Housing and Urban Development, 451 Seventh Street, SW., Washington, DC 20410; telephone: (202) 708-3000.

• Regulation: 24 CFR 891.165.

Project/Activity: Loretta Heritage Apartments, Syracuse, NY; Project Number: 014-HD084/NY06-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: December 30, 2002.

Reason Waived: The project experienced delays because additional time was needed for the owner to resolve a water pressure problem with the city.

Contact: Willie Spearmon, Director, Office of Housing Assistance and Grant Administration, Department of Housing and Urban Development, 451 Seventh Street, SW., Washington, DC 20410; telephone: (202) 708-3000.

• Regulation: 24 CFR 891.410(c).

Project/Activity: Henderson School Apartments, Henderson, NY; Project Number: 014-EE033.

Nature of Requirement: Section 891.410 relates to admission of families to projects for elderly or handicapped families that received reservations under Section 202 of the Housing Act of 1959 and housing assistance under Section 8 of the U.S. Housing Act of 1937. Section 891.410(c) limits occupancy to very low-income elderly persons; that is, households of one or more persons at least one of whom is 62 years of age at the time of initial occupancy.

Granted by: John C. Weicher, Assistant Secretary for Housing-Federal Housing Commissioner.

Date Granted: November 8, 2002.

Reason Waived: The Buffalo Multifamily Hub requested permission to waive the age requirements of the subject property. The owner/management agent of the subject project has requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy and the project will not fail. This waiver is effective for one year from date of approval.

Contact: Beverly J. Miller, Director, Office of Asset Management, Department of Housing and Urban Development, 451 Seventh Street, SW., Room 6160, Washington, DC 20410-7000; telephone (202) 708-3730.

III. Regulatory Waivers Granted by the Office of Public and Indian Housing

For further information about the following waivers actions, please see the name of the contact person who immediately follows the description of the waiver granted.

• Regulation: 24 CFR 982.505(d).

Project/Activity: Waltham Housing Authority (WHA), Waltham, MA; The WHA has requested a special exception payment standard that exceeds 120 percent of the fair market rent as a reasonable accommodation for a disabled housing choice voucher program participant.

Nature of Requirement: Section 982.505(d) allows a PHA to approve a higher payment standard within the basic range for a family that includes a person with a disability as a reasonable accommodation in accordance with 24 CFR part 8.

Granted By: Michael Liu, Assistant Secretary for Public and Indian Housing.

Date Granted: October 4, 2002.

Reason Waived: Approval of the waiver was granted to allow a disabled housing choice voucher participant to lease a unit large enough to allow movement with the motorized scooter or wheelchair in all the rooms. The kitchen appliances are low enough to be accessed and parking will be provided in front of her unit.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 982.505(d).

Project/Activity: Brookline Housing Authority (BHA), Brookline, MA; The BHA has requested a special exception payment standard that exceeds 120 percent of the fair market rent as a reasonable accommodation for a disabled housing choice voucher program participant. The participant is thirty-four years old and suffers from mental retardation and cerebral palsy.

Nature of Requirement: Section 982.505(d) allows a PHA to approve a higher payment standard within the basic range for a family that includes a person with a disability as a reasonable accommodation in accordance with 24 CFR part 8.

Granted By: Michael Liu, Assistant Secretary for Public and Indian Housing.

Date Granted: October 10, 2002.

Reason Waived: Approval of the waiver was granted to allow a disabled housing choice voucher participant to lease a unit with on-site supervision and assistance with living activities, without which she would not be able to live independently.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 982.505(d).

Project/Activity: Santa Fe Civic Housing Authority (SFCHA), Santa Fe, NM; The SFCHA has requested a special exception payment standard that exceeds 120 percent of the fair market rent as a reasonable accommodation for a disabled housing choice voucher program participant. The participant has chronic disorders and chemical sensitivities that are expected to last indefinitely.

Nature of Requirement: Section 982.505(d) allows a PHA to approve a higher payment standard within the basic range for a family that includes a person with a disability as a reasonable accommodation in accordance with 24 CFR part 8.

Granted By: Michael Liu, Assistant Secretary for Public and Indian Housing.

Date Granted: October 10, 2002.

Reason Waived: Approval of the waiver was granted to allow a disabled housing choice voucher participant to lease a unit that will accommodate the individual's disabilities.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 982.505(d).

Project/Activity: Brookline Housing Authority (BHA), Brookline, MA; The BHA has requested a special exception payment standard that exceeds 120 percent of the fair market rent as a reasonable accommodation for disabled housing choice voucher program participants. The participants require the support of a personal care assistant to enable them to live independently.

Nature of Requirement: Section 982.505(d) allows a PHA to approve a higher payment standard within the basic range for a family that includes a person with a disability as a reasonable accommodation in accordance with 24 CFR part 8.

Granted By: Michael Liu, Assistant Secretary for Public and Indian Housing.

Date Granted: November 27, 2002.

Reason Waived: Approval of the waiver was granted to allow a disabled housing choice voucher participant to lease a unit with on-site supervision and assistance with living activities because the participant cannot live independently.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 982.505(d).

Project/Activity: Massachusetts Department of Housing and Community Development (MDHCD), Boston, MA; Project-Based Assistance (PBA) Program. The MDHCD has requested a special exception payment standard that exceeds 120 percent of the fair market rent as a reasonable accommodation for a disabled housing choice voucher program participant.

Nature of Requirement: Section 982.505(d) allows a PHA to approve a higher payment standard within the basic range for a family that includes a person with a disability as a reasonable accommodation in accordance with 24 CFR part 8.

Granted By: Michael Liu, Assistant Secretary for Public and Indian Housing.

Date Granted: December 19, 2002.

Reason Waived: Approval of the waiver was granted to allow a disabled housing choice voucher participant to lease his current unit due to his maladies and the medication he takes. His doctors and counselors feel that moving from his current unit would be a physical and emotional hardship on him because he relies on his neighbors to drive him to doctor appointments and provide meals and emergency medical help. Without his neighbors' assistance, he is not able to live independently.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR, Section 983.7(b)(1).

Project/Activity: Western Piedmont Council of Governments (WPCG), Hickory, NC; The WPCG requested a waiver to the requirement that prohibits a public housing agency from attaching project-based assistance under the Housing Choice Voucher program to housing for which construction started before an agreement to enter into a housing assistance payments (AHAP) contract was executed for Millside Manor, a 28-unit new construction elderly project.

Nature of Requirement: Section 983.7(b)(1) prohibits a project from receiving project-based assistance where construction began before the execution of an AHAP contract.

Granted By: Michael Liu, Assistant Secretary for Public and Indian Housing.

Date Granted: November 27, 2002.

Reason Waived: The WPCG inadvertently failed to execute an AHAP contract. The regulation was waived since all of the regulatory requirements of the AHAP contract had been met and it appeared that the owner and the PHA operated in good faith. Accordingly, HUD authorized the WPCG to enter into an AHAP contract.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 983.51.

Project/Activity: Fort Wayne Housing Authority (FWHA), Fort Wayne, IN; The FWHA requested a waiver of competitive selection of owner proposals.

Nature of Requirement: Regulations at Section 983.51 requires competitive selection of owner proposals in accordance with a housing authority's HUD-approved advertisement and unit selection policy.

Granted By: Michael Liu, Assistant Secretary for Public and Indian Housing.

Date Granted: October 15, 2002.

Reason Waived: Competitive selection was waived since the owners of McMillan Park had already gone through a competitive selection. McMillan Park was awarded low-income housing tax credits through a competitive process conducted by the state of Indiana.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 983.51.

Project/Activity: St. Paul Public Housing Agency (SPPHA), St. Paul, MN; Project-Based Program.

Nature of Requirement: Section 983.51 require competitive selection of owner proposals in accordance with a housing authority's HUD-approved advertisement and unit selection policy.

Granted By: Michael Liu, Assistant Secretary for Public and Indian Housing.

Date Granted: December 30, 2002.

Reason Waived: Approval of the waiver was granted because the project had already gone through a competitive selection process for funding.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 983.51 and Section II subpart E of the January 16, 2001, Federal Register Notice, Revisions to PHA Project-Based Assistance (PBA) Program; Initial Guidance.

Project/Activity: Chicago Housing Authority (CHA), Chicago, IL. The CHA requested a waiver of competitive selection of owner proposals and an exception to the initial guidance to permit it to attach PBA to Hearts United III that will be located in three adjoining census tracts with poverty rates that exceed 20 percent.

Nature of Requirement: Section 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: November 7, 2002.

Reason Waived: Competitive selection was waived since the project underwent a competitive selection process by the state of Illinois for Low-Income Housing Tax Credits, as well as one by the city of Chicago's Department of Housing for city-owned land. Hearts United III is in the Grand Boulevard community and within the 43rd Street—Cottage Grove Redevelopment Area, designated as such in 1998 by the city of Chicago Department of Planning and the City Council. The goals of a designated redevelopment area are to support the development of a mixed-income community through residential, commercial and related development. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 983.255(b).

Project/Activity: Rochester New York Housing Authority (RHA), Rochester, NY; Project-Based Program.

Nature of Requirement: Section 983.255(b) requires HUD approval for a special adjustment of the rent to an owner in the PBA program if the adjustment reflects increases in the actual and necessary cost of owning and maintaining the contract unit.

Granted By: Michael Liu, Assistant Secretary for Public and Indian Housing.

Date Granted: December 30, 2002.

Reason Waived: Approval of the waiver was granted because there was a substantial and general increase in property insurance in suburban Monroe County due to the terrorist attacks of September 11, 2001.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: 24 CFR 1000.214.

Project/Activity: The submission of the Indian Housing Plan (IHP) by the Hydaburg Cooperative Association (Hydaburg, Alaska) for Fiscal Year (FY) 2002 funding made available under the Native American Housing Assistance and Self-Determination Act of 1996 (NAHASDA).

Nature of Requirement: Section 1000.214 establishes a July 1st deadline for the submission of an IHP.

Reason Waived: The Area Office of Native American Programs (ONAP) indicated that the 2002 IHP was received before the July 1st deadline and advised the Tribal Council that the plan was received. When it was discovered that the Association's IHP had not been received by ONAP, the regulatory due date had passed.

Granted By: Michael Liu, Assistant Secretary for Public and Indian Housing.

Date Granted: November 3, 2002.

Contact: Deborah Lalancette, Director, Grants Management, Denver Program ONAP, Department of Housing and Urban Development, 1999 Broadway, Suite 3390, Denver, CO 80202; telephone: (303) 675-1625.

• Regulation: 24 CFR 1000.336(b).

Project/Activity: Request to Waive the Regulatory Deadline for Submitting a Census Challenge to the data to be used to compute the Ute Indian Tribe's (Ft. Duchesne, Utah) FY 2003 Indian Housing Block Grant Allocation.

Nature of Requirement: An Indian tribe or tribally designated housing entity (TDHE) that has data in its possession that it contends are more accurate than data contained in the U.S. Decennial Census, and the data were collected in a manner acceptable to HUD, may submit the data and proper documentation to HUD.

Reason Waived: Fires on the Ute Indian Reservation resulted in processing delays at the Tribe's TDHE. In addition, recent changes in the Ute Indian's tribal administration have had a significant impact on the Tribe's TDHE, including reorganization and restructuring, and the capacity to submit a Census Challenge in a timely fashion.

Granted By: Michael Liu, Assistant Secretary for Public and Indian Housing.

Date Granted: November 27, 2002.

Contact: Deborah Lalancette, Director, Grants Management, Denver Program ONAP, Department of Housing and Urban Development, 1999 Broadway, Suite 3390, Denver, CO 80202; telephone: (303) 675-1625.

• Regulation: Section II subpart E of the January 16, 2001, Federal Register Notice, Revisions to PHA Project-Based Assistance (PBA) Program; Initial Guidance.

Project/Activity: Housing Authority of the County of Santa Cruz (HACSC), Santa Cruz, CA; The HACSC requested an exception to the initial guidance to permit it to attach PBA to El Centro Apartments that is in a census tract with a poverty rate of 21 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: October 4, 2002.

Reason Waived: Approval of the exception was granted since the project was in an area that had undergone major renovation since an earthquake in 1989. During the years of reconstruction along Pacific Avenue over $90 million of private investment and $30 million in public funds have been expended. Pacific Avenue is part of the city's redevelopment area as identified in the city's Consolidated Plan for affordable and preserved housing. The housing and commercial activity along Pacific Avenue is consistent with the goal of deconcentration and expanding housing and economic opportunities.

Contact: Gerald Benoit, Director, Housing Voucher Management and Operations Division, Office of Public Housing and Voucher Programs, Office of Public and Indian Housing, Department of Housing and Urban Development, 451 Seventh Street, SW., Washington, DC 20410; telephone: (202) 708-0477.

• Regulation: Section II subpart E of the January 16, 2001, Federal Register Notice, Revisions to PHA PBA Program; Initial Guidance.

Project/Activity: Housing Authority of the City of Atlanta (HACA), Atlanta City, GA; The HACA requested an exception to the initial guidance to permit it to attach PBA to Columbia High Point Estates that is in a census tract with a poverty rate of 29 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: October 31, 2002.

Reason Waived: Approval of the exception was granted since the project will be developed in the Pryor Road Corridor that is a designated redevelopment area as defined in the city's approved Atlanta Southside Redevelopment Plan. Approximately 2000 new rental and homeownership units will be developed in the Pryor Road Corridor over the next five years in addition to new planned commercial, retail, and recreational opportunities. Of the 2000 new units, 690 will be subsidized through tax credits or HUD subsidies; the other 1,310 units will be sold or rented at market rate. The current and planned activities for this redevelopment area are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: Section II subpart E of the January 16, 2001, Federal Register Notice, Revisions to PHA PBA Program; Initial Guidance.

Project/Activity: Massachusetts Department of Housing & Community Development (MDHCD), Boston, MA; The MDHCD requested an exception to the initial guidance to permit it to attach PBA to a property located at 1202 Commonwealth Avenue in Boston that is in a census tract with a poverty rate of 32.45 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: December 9, 2002.

Reason Waived: Approval of the exception was granted since the adjusted poverty rate, that takes into consideration (and excludes) the significant number of college students who reside in the immediate area, is 18.37 percent. The project is also located in the Allston Village Main Streets District as designated by the Department of Neighborhood Development in which $15,876,857 has been invested for economic development, housing preservation, and rental housing development.

Contact: Gerald Benoit, Director, Real Estate and Housing Performance Division, Office of Public and Assisted Housing Delivery, Office of Public and Indian Housing, Department of Housing and Urban Development, 451 Seventh Street, SW., Room 4210, Washington, DC 20410; telephone: (202) 708-0477.

• Regulation: Section II subpart E of the January 16, 2001, Federal Register Notice, Revisions to PHA PBA Program; Initial Guidance.

Project/Activity: Boston Housing Authority (BHA), Boston, MA; The BHA requested an exception to the initial guidance to permit it to attach 13 PBA units to the Metropolitan. The Metropolitan is a new construction project consisting of 251 units, with 133 rental units (53 market rent and 81 affordable), and 118 ownership units (84 market rent and 34 affordable) in the Chinatown neighborhood of Boston. The current poverty rate according to 1990 census data is 28.53 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: December 9, 2002.

Reason Waived: Approval of the exception was granted because the Department of Neighborhood Development (DND) has worked with the community of Chinatown to sponsor several projects and programs that have worked to deconcentrate poverty and improve the quality of life in this area. Projects include economic development, homebuyer assistance, and rental housing development with a total public assistance of $5,732,250. In addition, within the Chinatown/Theatre District Neighborhood, several large-scale market residential and commercial projects have been completed or scheduled to be completed within the next five years.

Contact: Gerald Benoit, Director, Housing Voucher Management and Operations Division, Office of Public Housing and Voucher Programs, Office of Public and Indian Housing, Department of Housing and Urban Development, 451 Seventh Street, SW., Room 4210, Washington, DC 20410; telephone: (202) 708-0477, extension 4069.

• Regulation: Section II subpart E of the January 16, 2001, Federal Register Notice, Revisions to PHA Project-Based Assistance (PBA) Program; Initial Guidance.

Project/Activity: St. Paul Public Housing Agency (SPPHA), St. Paul, MN; The SPPHA requested an exception to the initial guidance to permit it to attach PBA to a 71-unit single-room occupancy facility owned by Catholic Charities in a census tract with a poverty rate of 37 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: December 30, 2002.

Reason Waived: Approval of the exception was granted because Guild Hall (also known as St. Christopher Place Apartments) is in a HUD-designated Enterprise Community whose goals of creating jobs, housing, and new educational and healthcare opportunities are consistent with the goal of deconcentration and expanding housing and economic opportunities.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: Section II subpart E and subpart F of the January 16, 2001, Federal Register Notice, Revisions to PHA PBA Program; Initial Guidance.

Project/Activity: St. Paul Public Housing Agency (SPHA), St. Paul, MN; The SPHA requested an exception to the initial guidance to permit it to attach PBA to the Oxford, a building that is in a census tract with a poverty rate that exceeds 20 percent. The SPPHA also requested an exception to waive the requirement that no more than 25 percent of the dwelling units in any building may be assisted under a housing assistance payments (HAP) contract for PBA for this project and a second project named the Lexington.

Nature of Requirement: Section II subpart E of the initial guidance requires that in order to meet the Department's goal of deconcentration and expanding housing and economic opportunities, the projects must be in census tracts with poverty rates of less than 20 percent. Section II subpart F requires that no more than 25 percent of the dwelling units in any building may be assisted under a housing assistance payments (HAP) contract for PBA except for dwelling units that are specifically made available for elderly families, disabled families, and families receiving supportive services. Until regulations are promulgated regarding the category of families receiving supportive services, HUD Headquarters is authorizing implementation of this aspect of the law on a case-by-case basis.

Granted By: Michael Liu, Assistant Secretary for Public and Indian Housing.

Date Granted: November 13, 2002.

Reason Waived: Approval of the exception for deconcentration was granted since the Oxford is in a HUD-designated Enterprise Community the goals of which are to open new businesses, create jobs, housing, and new educational and healthcare opportunities. These goals are consistent with the goal of deconcentration and expanding housing and economic opportunities. Approval of the exception for the number of units in a building that may be project-based was granted because the families living in the Oxford and Lexington will receive supportive services including job training, literacy life skills, childcare, and transportation. These supportive services are consistent with the statute.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: Section II subpart F of the January 16, 2001, Federal Register Notice, Revisions to PHA PBA Program; Initial Guidance.

Project/Activity: Housing Authority City of Elkhart (HACE), Elkhart, IN; The HACE requested an exception to waive the requirement that no more than 25 percent of the dwelling units in any building may be assisted under a housing assistance payments (HAP) contract for PBA for 12 units of housing that will be rehabilitated at 525 Middlebury Street.

Nature of Requirement: Section II subpart F of the initial guidance requires that no more than 25 percent of the dwelling units in any building may be assisted under a housing assistance payments (HAP) contract for PBA except for dwelling units that are specifically made available for elderly families, disabled families, and families receiving supportive services. Until regulations are promulgated regarding the category of families receiving supportive services, Headquarters is authorizing implementation of this aspect of the law on a case-by-case basis.

Granted By: Michael Liu, Assistant Secretary for Public and Indian Housing.

Date Granted: November 27, 2002.

Reason Waived: Approval of the exception to the number of units in a building that may be project-based was granted because the families living in the Middlebury Street building will receive supportive services in the areas of employment, homemaking skills, credit and household budgeting, and asset building for homeownership. These supportive services are consistent with the statute.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

• Regulation: Section II subpart F of the January 16, 2001, Federal Register Notice, Revisions to PHA PBA Program; Initial Guidance.

Project/Activity: Camden Housing Authority (CHA), Camden, NJ; The CHA requested an exception to waive the requirement that no more than 25 percent of the dwelling units in any building may be assisted under a housing assistance payments (HAP) contract for PBA for Everett Gardens, a 184-unit project that will undergo substantial rehabilitation.

Nature of Requirement: Section II subpart F requires that no more than 25 percent of the dwelling units in any building may be assisted under a housing assistance payments (HAP) contract for PBA except for dwelling units that are specifically made available for elderly families, disabled families, and families receiving supportive services. Until regulations are promulgated regarding the category of families receiving supportive services, HUD Headquarters is authorizing implementation of this aspect of the law on a case-by-case basis.

Granted By: Michael Liu, Assistant Secretary for Public and Indian Housing.

Date Granted: November 29, 2002.

Reason Waived: Approval of the exception for the number of units in a building that may be project-based was granted because the families living in Everett Gardens will receive supportive services including job readiness, general education development, and training in trade programs. These supportive services are consistent with the statute.

Contact: Gerald Benoit, Director, Housing Voucher Management and Operations Division, Office of Public Housing and Voucher Programs, Office of Public and Indian Housing, Department of Housing and Urban Development, 451 Seventh Street, SW., Room 4210, Washington, DC 20410; telephone: (202) 708-0477.

[FR Doc. 03-8275 Filed 4-4-03; 8:45 am]

BILLING CODE 4210-32-P